DEPARTMENT OF ENERGY

Federal Energy Regulatory Commission

[Project No. P-9988-015]

Augusta Canal Authority; Notice of Application Tendered for Filing With the Commission, Soliciting Additional Study Requests, and Establishing Procedural Schedule for Relicensing and Deadline for Submission of Final Amendments

June 15, 2007.

Take notice that the following hydroelectric application has been filed with the Commission and is available for public inspection.

a. Type of Application: New major license.

b. Project No.: P-9988-015.

c. Date Filed: May 31, 2007.

d. Applicant: Augusta Canal Authority.

e. Name of Project: King Mill Hydroelectric Project.

f. Location: The King Mill Project is located on the Augusta Canal about 6 miles downstream of the Augusta Diversion Dam, adjacent to the Savannah River, Richmond County, Augusta, GA. The project does not affect federal lands.

g. Filed Pursuant to: Federal Power Act 16 U.S.C. 791 (a)-825(r).

h. Applicant Contact: Mr. Dayton Sherrouse, Executive Director, Augusta Canal Authority, 1450 Green Street, Suite 400, Augusta, GA 30901; Telephone (706) 823-0440, Ext. 1.

i. FERC Contact: Sarah Florentino, Telephone (202) 502-6863, or e-mail sarah.florentino@ferc.gov. Additional information on Federal Energy Regulatory Commission (FERC) hydroelectric projects is available on FERC's Web site: http://www.ferc.gov/industries/hydropower.asp.

j. This application is not ready for environmental analysis at this time.

k. Cooperating agencies: We are asking Federal, State, local, and tribal agencies with jurisdiction and/or special expertise with respect to environmental issues to cooperate with us in the preparation of the environmental document. Agencies who would like to request cooperating status should follow the instructions for filing such requests described in item m below. Cooperating agencies should note the Commission's policy that agencies that cooperate in the preparation of the environmental document cannot also intervene. See, 94 FERC ¶ 61,076 (2001).

l. Pursuant to Section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

m. Deadline for filing additional study requests and requests for cooperating agency status: July 30, 2007.

All documents (original and eight copies) should be filed with: Kimberly D. Bose, Secretary, Federal Energy Regulatory Commission, 888 First Street, NE., Washington, DC 20426.

Additional study requests and requests for cooperating agency status may be filed electronically via the Internet in lieu of paper. The Commission strongly encourages electronic filings. See 18 CFR 385.2001(a)(1)(iii) and the instructions on the Commission's Web site (http://www.ferc.gov) under the “e-Filing” link.

n. Project Description: The existing King Mill Hydroelectric Project consists of: (1) Intake works consisting of a 50-foot-long, 15-foot-high headgate and intake structure; (2) primary and secondary steel trash racks; (3) a 200-foot-long, 40-foot-wide, concrete-lined, open flume head race; (4) a 435-foot-long, 30-foot-wide brick and masonry powerhouse; (5) two vertical shaft turbine/generator units with an installed capacity of 2.25 megawatts; (6) a 435-foot-long, 30-foot-wide, concrete-lined, open tailrace section which returns flows to the Augusta Canal, and (7) appurtenant facilities. There is no dam or impoundment, as approximately 881 cfs of water is withdrawn from the Augusta Canal when operating at full capacity. Developed head is approximately 32 feet. The estimated generation is 14,366 MWh annually. Nearly all generated power is utilized by the Standard Textile Plant, located within the King Mill building, for textile production. No new facilities or changes in project operation are proposed.

o. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659. A copy is also available for inspection and reproduction at the address in item (h) above.

p. You may also register online at http://www.ferc.gov/esubscribenow.htm to be notified via email of new filings and issuances related to this or other pending projects. For assistance, contact FERC Online Support.

q. With this notice, we are initiating consultation with the Georgia State Historic Preservation Officer (SHPO), as required by § 106, National Historic Preservation Act, and the regulations of the Advisory Council on Historic Preservation, 36, CFR, at § 800.4.

r. Procedural Schedule: The application will be processed according to the following Hydro Licensing Schedule. Revisions to the schedule may be made as appropriate.

Milestone | Target date
Issue Scoping Document 1 for comments | September 2007.
Request Additional Information (if necessary) | November 2007.
Notice of Acceptance/Notice of Ready for Environmental Analysis | February 2008.
Filing of interventions, recommendations, preliminary terms and conditions, and fishway prescriptions | April 2008.
Reply comments due | May 2008.
FERC issues single EA (without a draft) | September 2008.
Comments on EA due | November 2008.

s. Final amendments to the application must be filed with the Commission no later than 30 days from the issuance date of the notice of ready for environmental analysis.

Kimberly D. Bose,
Secretary.

[FR Doc. E7-12188 Filed 6-22-07; 8:45 am]

BILLING CODE 6717-01-P